DEPARTMENT OF HEALTH AND HUMAN SERVICES

Office of the Secretary

Statement of Organization, Functions and Delegations of Authority

Part A, Office of the Secretary, Statement of Organization, Functions, and Delegations of Authority of the Department of Health and Human Services (HHS) is being amended at Chapter AA, Immediate Office of the Secretary, as last amended at 44 FR 31045, May 30, 1979. This reorganization is to establish a new Chapter AAB, “Office of Public Health Preparedness (OPHP)” to direct activities of the Department of Health and Human Services relating to protecting the civilian population from acts of bioterrorism and other public health emergencies. The changes are as follows: Under Part A, Office of the Secretary, Chapter AA, make the following changes:

A. Under Section AA.10 “Organization,” add the following new component: Office of Public Health Preparedness.

B. Establish a new chapter AAB, “Office of Public Preparedness (OPHP)” to read as follows:

Office of Public Health Preparedness

AAB.00 MISSION

AAB.10 ORGANIZATION

AAB.20 FUNCTIONS

Section AAB.00 Mission. The Office of Public Health Preparedness (OPHP) shall direct the Department of Health and Human Services' efforts to prepare for, protect against, respond to, and recover from all acts of bioterrorism and other public health emergencies that affect the civilian population; and shall serve as the focal point within HHS for these activities.

Section AAB.10 Organization: The Office of Public Health Preparedness (OPHP) is headed by a Director, who reports directly to the Secretary, and serves as the Secretary's principal advisor on HHS activities relating to protecting the civilian population from acts of bioterrorism and other public health emergencies.

Section AAB.20 Functions: The Office of Public Health Preparedness (OPHP) includes the following responsibilities:

1. Serves as the Secretary's principal advisor on matters relating to bioterrorism and public health emergencies.

2. Acts as the Department's liaison with the Office of Homeland Security.

3. Serves as the principal representative of the Department to other Federal agencies and the private sector in all matters related to bioterrorism, and other public health emergencies.

4. Directs HHS Operating and Staff Division implementation of a comprehensive HHS strategy to protect the civilian population from acts of bioterrorism and other public health emergencies. The OPHP will work with the OPDIVS and STAFFDIVs to ensure the adequacy of HHS strategy for preparing, preventing, responding to, and recovering from acts of bioterrorism and other public health emergencies.

Dated: December 14, 2001.
Tommy G. Thompson,
Secretary.

[FR Doc. 02-900 Filed 1-14-02; 8:45 am]

BILLING CODE 4150-03-M